DEPARTMENT OF AGRICULTURE

Commodity Credit Corporation

7 CFR Part 1464

Tobacco Marketing Quotas, Acreage Allotments and Production Adjustment

AGENCY: Farm Service Agency, USDA.

ACTION: Direct final rule; confirmation of effective date.

SUMMARY: This notice announces that a direct final rule entitled Tobacco Marketing Quotas, Acreage Allotments and Production Adjustment (Burley Warehouse Designations) published by the Farm Service Agency will take effect without change.

DATES: The direct final rule was effective on February 4, 2002.

FOR FURTHER INFORMATION CONTACT: Ann Wortham at (202) 720-2715, or via electronic mail at ann_wortham@wdc.usda.gov.

SUPPLEMENTARY INFORMATION: The Farm Service Agency (FSA) published a direct final rule entitled Tobacco Marketing Quotas, Acreage Allotments and Production Adjustment on January 4, 2002 (67 FR 481) to amend the regulations at 7 CFR 1464 governing the marketing of tobacco. The rule stipulated that its provisions would be effective February 4, 2002, unless adverse comments were received. The Agency received no adverse comments. Accordingly, this notice announces that its provisions have taken effect without change.

To expedite the necessary changes in the event of adverse comments being received on the direct final rule, a proposed rule also entitled Tobacco Marketing Quotas, Acreage Allotments and Production Adjustment, proposing the same changes as in the direct final rule was also published on January 4, 2002 (67 FR 526). If adverse comments had been received on either the direct final or proposed rule, the proposed rule would have been the operative document and the Agency would have addressed the comments and ultimately published a final rule. The Agency received no adverse comments. Consequently, since the direct final rule will take effect, FSA will take no further action on the proposed rule.

All comments received will be maintained as public records. Requests to view comments received on either the direct final or the proposed rule may be made by contacting FSA at the number provided above.

Signed at Washington, D.C. on March 20, 2002.
James R. Little,
Executive Vice President, Commodity Credit Corporation.

[FR Doc. 02-7560 Filed 3-28-02; 8:45 am]

BILLING CODE 3410-05-P